DEPARTMENT OF DEFENSE

Office of the Secretary of Defense

[DoD-2007-OS-0100]

Privacy Act of 1974; Systems of Records

AGENCY: Defense Logistics Agency.

ACTION: Notice to amend a system of records.

SUMMARY: The Defense Logistics Agency is amending a system of records notice to its existing inventory of record systems subject to the Privacy Act of 1974 (5 U.S.C. 552a), as amended.

DATES: This action will be effective without further notice on October 4, 2007 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 28, 2007.
L.M. Bynum,
Alternate OSD Federal Register Liaison Officer, Department of Defense.

S700.10 DES

System name:

Travel Input Records (December 1, 2000, 65 FR 75254).

Changes:

System identifier:

Delete “DES” from entry.

* * * * *

System location:

Delete entry and replace with “Headquarters, Defense Logistics Agency, 8725 John J. Kingman Road, Fort Belvoir, VA 22060-6221 and at the Defense Logistics Agency Field Activities. Official mailing addresses may be obtained from the System manager below.

* * * * *

System manager(s) and address:

Delete entry and replace with “Policy Office: Chief, Travel Services Division, Headquarters Defense Logistics Agency, ATTN: DES-BD, 8725 John J. Kingman Road, Stop 6220, Fort Belvoir, VA 22060-6221.

Record holder: Financial Liaison Officers at the DLA Field Activities.”

Notification procedure:

Delete entry and replace with “Individuals seeking to determine whether information about themselves is contained in this system should address written inquiries to the HQ DLA Privacy Act Office, Headquarters, Defense Logistics Agency, ATTN: HQ DLA-GC (FOIA/Privacy), 8725 John J. Kingman Road, Stop 1644, Fort Belvoir, VA 22060-6221.

Request should contain individual's full name, order number and/or Social Security Number (SSN).

DLA employees and military members with direct access to the on-line database may query the database by providing their name and password.

Records older than 15 months are contained within the electronic system, individuals should address a written inquiry to the HQ DLA Privacy Act Office, Headquarters, Defense Logistics Agency, ATTN: HQ DLA-GC (FOIA/Privacy), 8725 John J. Kingman Road, Stop 1644, Fort Belvoir, VA 22060-6221.

Record access procedures:

Delete entry and replace with “Individuals seeking access to information about themselves contained in this system should address written inquiries to the HQ DLA Privacy Act Office, Headquarters, Defense Logistics Agency, ATTN: HQ DLA-GC (FOIA/Privacy), 8725 John J. Kingman Road, Stop 1644, Fort Belvoir, VA 22060-6221.

Request should contain individual's full name, order number and/or Social Security Number (SSN).

DLA employees and military members with direct access to the on-line database may query the database by providing their name and password.

For access to electronic records created at HQ DLA within the past 15 months, DLA employees and military members with online access to the database may query the database by providing their name and password.

For access to archived electronic records stored off-line, address written inquiries to the HQ DLA Privacy Act Office, Headquarters, Defense Logistics Agency, ATTN: HQ DLA-GC (FOIA/Privacy), 8725 John J. Kingman Road, Stop 1644, Fort Belvoir, VA 22060-6221.

Individuals who do not have access to the HQ DLA database should submit written inquiries to the HQ DLA Privacy Act Office, Headquarters, Defense Logistics Agency, ATTN: HQ DLA-GC (FOIA/Privacy), 8725 John J. Kingman Road, Stop 1644, Fort Belvoir, VA 22060-6221.

Contesting record procedures:

Delete entry and replace with “The DLA rules for accessing records, for contesting contents, and appealing initial agency determinations are contained in 32 CFR part 323, or may be obtained from the HQ DLA Privacy Act Office, Headquarters, Defense Logistics Agency, ATTN: HQ DLA-GC (FOIA/Privacy), 8725 John J. Kingman Road, Stop 1644, Fort Belvoir, VA 22060-6221.”

* * * * *

S700.10

System name:

Travel Input Records.

System location:

Headquarters, Defense Logistics Agency, 8725 John J. Kingman Road, Fort Belvoir, VA 22060-6221 and at the Defense Logistics Agency Field Activities. Official mailing addresses may be obtained from the system manager below.

Categories of individuals covered by the system:

All DLA military members, civilian employees, and dependents who perform travel, Temporary Duty (TDY) or Permanent Change of Station (PCS); individuals of other DoD agencies serviced by DLA under an interservice support agreement; and public and private sector individuals traveling under invitational travel orders.

Categories of records in the system:

Consists of name, Social Security Number, home address, security clearance level, order number, travel itinerary, claim data, and financial details of real estate transactions.

Authority for maintenance of the system:

Chapter 57, 5 U.S.C., Travel, Transportation, and Subsistence; 10 U.S.C. 133, Under Secretary of Defense for Acquisition and Technology; and E.O. 9397 (SSN).

Purpose(s):

Records are used in administering the travel program, managing and tracking funds, and accounting for employee status for pay and leave tracking purposes.

Data is also used to determine that expenses relating to the sale or purchase of a residence for a Permanent Change of Station are reasonable and customary for the locality of the transaction.

Statistical data, with all personal identifiers removed, is used to assess trends, manage funds, and forecast future expenses.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Federal agency or private sector organization employing the traveler for funds control, personnel administration, or program management purposes.

To banking establishments for the purpose of facilitating direct deposit and to confirm billing or expense data.

To Federal, State, and Local government agencies for taxing, audit, or oversight purposes.

To Government and private sector entities to provide for or facilitate transportation, lodging, relocation or related travel services.

The DOD “Blanket Routine Uses” also apply to this system of records notice.

Policies and practices for storing, retrieving, accessing, retaining, and disposing of records in the system:

Storage:

Paper records are in file folders and electronic storage media.

Retrievability:

By name, Social Security Number (SSN) or order number.

Safeguards:

Records are maintained in areas that are accessible only to individuals who must service the record in the performance of their official duties. Electronic records are password protected with access restricted to authorized users.

Retention and disposal:

Paper records are retained for 6 years and then destroyed. Electronic records are retained on line for 15 months and then removed to disk where they are retained for an additional 4 years and 9 months.

System manager(s) and address:

Policy Office: Chief, Travel Services Division, Headquarters Defense Logistics Agency, ATTN: DES-BD, 8725 John J. Kingman Road, Stop 6220, Fort Belvoir, VA 22060-6221.

Record holder: Financial Liaison Officers at the DLA Field Activities.

Notification procedure:

Individuals seeking to determine whether information about themselves is contained in this system should address written inquiries to the HQ DLA Privacy Act Office, Headquarters, Defense Logistics Agency, ATTN: HQ DLA-GC (FOIA/Privacy), 8725 John J. Kingman Road, Stop 1644, Fort Belvior, VA 22060-6221.

Request should contain individuals full name, order number and/or Social Security Number (SSN).

DLA employees and military members with direct access to the on-line database may query the database by providing their name and password.

Records older than 15 months are contained within the electronic system, individuals should address a written inquiry to the HQ DLA Privacy Act Office, Headquarters, Defense Logistics Agency, ATTN: HQ DLA-GC (FOIA/Privacy), 8725 John J. Kingman Road, Stop 1644, Fort Belvior, VA 22060-6221.

Record access procedures:

Individuals seeking access to information about themselves contained in this system should address written inquiries to the HQ DLA Privacy Act Office, Headquarters, Defense Logistics Agency, ATTN: HQ DLA-GC (FOIA/Privacy), 8725 John J. Kingman Road, Stop 1644, Fort Belvior, VA 22060-6221.

Request should contain individuals full name, order number and/or Social Security Number (SSN).

DLA employees and military members with direct access to the on-line database may query the database by providing their name and password.

For access to electronic records created at HQ DLA within the past 15 months, DLA employees and military members with online access to the database may query the database by providing their name and password.

For access to archived electronic records stored off-line, address written inquiries to the HQ DLA Privacy Act Office, Headquarters, Defense Logistics Agency, ATTN: HQ DLA-GC (FOIA/Privacy), 8725 John J. Kingman Road, Stop 1644, Fort Belvior, VA 22060-6221.

Individuals who do not have access to the HQ DLA database should submit written inquiries to the HQ DLA Privacy Act Office, Headquarters, Defense Logistics Agency, ATTN: HQ DLA-GC (FOIA/Privacy), 8725 John J. Kingman Road, Stop 1644, Fort Belvior, VA 22060-6221.

Contesting record procedures:

The DLA rules for accessing records, for contesting contents, and appealing initial agency determinations are contained in 32 CFR part 323, or may be obtained from the HQ DLA Privacy Act Office, Headquarters, Defense Logistics Agency, ATTN: HQ DLA-GC (FOIA/Privacy), 8725 John J. Kingman Road, Stop 1644, Fort Belvior, VA 22060-6221.

Record source categories:

Information is collected from the individual and the individual's supervisor, from the hiring activity's personnel office, and from travel and expense forms.

Exemptions claimed for the system:

None.

[FR Doc. E7-17441 Filed 8-31-07; 8:45 am]

BILLING CODE 5001-06-P